DEPARTMENT OF STATE

[Public Notice 6918]

Waiver of Restriction on Assistance to Cambodia

Pursuant to section 7086(c)(2) of the Department of State, Foreign Operations, and Related Programs Appropriations Act, 2010 (Division F, Pub. L. 111-117) (“the Act”), and Department of State Delegation of Authority Number 245-1, I hereby determine that it is important to the national interest of the United States to waive the requirements of section 7086(c)(1) of the Act with respect to the Government of Cambodia, and I hereby waive such restriction.

This determination shall be reported to the Congress, and published in the Federal Register.

Dated: March 1, 2010.
Jacob J. Lew,
Deputy Secretary for Management and Resources.

[FR Doc. 2010-5261 Filed 3-10-10; 8:45 am]

BILLING CODE 4710-30-P